DEPARTMENT OF TRANSPORTATION

Office of the Secretary

[Notice of Order (Order 2007-3- ); Docket OST-2006-25307]

International Air Transport Association Tariff Conference Proceeding

AGENCY: Office of the Secretary, Department of Transportation.

SUMMARY: The Department is issuing an order withdrawing its approval under 49 U.S.C. 41309 for an International Air Transport Association (“IATA”) agreement, the Provisions for the Conduct of the IATA Traffic Conferences, insofar as that agreement establishes conferences whereby IATA's member carriers discuss and agree upon passenger fares and cargo rates for U.S.-Australia/Europe markets. The withdrawal of approval will become effective on June 30, 2007. The Department's withdrawal of its approval for the agreement will end the agreement's immunity from the antitrust laws under 49 U.S.C. 41308 for conference discussions of fares and rates for the U.S.-Australia/Europe markets. This order makes final the tentative findings and conclusions set forth in the Department's show-cause order, Order 2006-7-3 (July 5, 2006).

DATES: The withdrawal of approval will become effective on June 30, 2007.

FOR FURTHER INFORMATION CONTACT: John Kiser, Pricing & Multilateral Affairs Division (X-43, Room 6424), U.S. Department of Transportation, 400 Seventh St, SW., Washington, DC 20590, (202) 366-2435; or Donald A. Horn, Assistant General Counsel for International Law (C-20, Room 10118), U.S. Department of Transportation, 400 Seventh St., SW., Washington, DC 20590, (202) 366-2972.

Dated: March 30, 2007.
Andrew B. Steinberg,
Assistant Secretary for Aviation and International Affairs.

[FR Doc. E7-6354 Filed 4-4-07; 8:45 am]

BILLING CODE 4910-9X-P